DEPARTMENT OF HOMELAND SECURITY

Coast Guard

33 CFR Parts 26, 161, 164, and 165

[USCG-2003-14757]

RIN 1625-AA67

Automatic Identification System; Vessel Carriage Requirement

AGENCY: Coast Guard, DHS.

ACTION: Policy statement.

SUMMARY: The Coast Guard is announcing its policy and intent to establish one uniform compliance date for U.S. domestic vessels subject to Automatic Identification System carriage regulations while transiting a Vessel Traffic Service (VTS) area. On July 1, 2003, the Coast Guard published a temporary interim rule that established 3 different compliance dates, depending on particular VTS areas. This policy statement aligns these dates with the deadline date of the Maritime Transportation Security Act of 2002.

DATES: This policy is effective on September 29, 2003.

FOR FURTHER INFORMATION CONTACT: If you have questions on this Policy Statement, contact Mr. Jorge Arroyo, U.S. Coast Guard Office of Vessel Traffic Management (G-MWV), by telephone 202-267-6277, toll-free telephone 1-800-842-8740 ext. 7-6277, or electronic mail JArroyo@comdt.uscg.mil.

SUPPLEMENTARY INFORMATION:

Background

On July 1, 2003, we published a temporary interim rule with request for comments and notice of public meeting titled “Automatic Identification System; Vessel Carriage Requirement” in the Federal Register (68 FR 39353). This temporary interim rule was one of a series of temporary interim rules on maritime security published in the July 1, 2003, issue of the Federal Register. On July 16, 2003, we published a document correcting typographical errors and omissions in that rule (68 FR 41913). The temporary interim rule established an Automatic Identification System (AIS) compliance date that varies depending upon VTS area. They are as follows:

(1) For VTS St. Marys River, not later than December 31, 2003;

(2) For VTS Berwick Bay, VMRS Los Angeles/Long Beach, VTS Lower Mississippi River, VTS Port Arthur and VTS Prince William Sound, not later than July 1, 2004; and

(3) For VTS Houston-Galveston, VTS New York, VTS Puget Sound, and VTS San Francisco, not later than December 31, 2004.

These deadline dates were established to coincide with anticipated AIS-capability at each of these respective ports via our Ports and Waterways Safety System (PAWSS) upgrades. PAWSS is an effort to establish a national transportation system that collects, processes, and disseminates information on the marine operating environment and maritime vessel traffic in major U.S. ports and waterways. Work continues on schedule in our PAWSS process; however, we recognize that having differing deadline dates has caused unwarranted confusion and may place certain vessels at a disadvantage of reaping market benefits. Therefore, the Coast Guard will amend its temporary interim rule, by a forthcoming final rule, that will adopt December 31, 2004, as the compliance date for all VTS users, not on international voyage, that are subject to the provisions of 33 CFR 164.46(b).

Policy Statement

Until the Coast Guard publishes its final rule regarding AIS carriage requirements, the following policy applies:

The Coast Guard will not enforce the deadline dates as stated in 33 CFR 164.46(c)(1) through (4).

How Long Will This Policy Remain in Effect?

This policy will remain in effect until publication of the final rule regarding AIS carriage [USCG 2003-14757], that we anticipate publishing prior to October 25, 2003. In the final rule we intend to adopt December 31, 2004, as the deadline date for domestic AIS carriage for those vessels denoted in 33 CFR 164.46(b).

Dated: September, 22 2003.
T.H. Gilmour,
Rear Admiral, Coast Guard, Assistant Commandant for Marine Safety, Security and Environmental Protection.

[FR Doc. 03-24571 Filed 9-26-03; 8:45 am]

BILLING CODE 4910-15-P